POSTAL REGULATORY COMMISSION

Sunshine Act Meetings

Federal Register Citation of Previous Announcement: 76 FR 80984 (December 27, 2011)

PREVIOUSLY ANNOUNCED TIME AND DATE OF MEETING: Wednesday, January 4, 2012, at 11 a.m.

CHANGES IN THE MEETING: The time and date of the meeting is Thursday, January 5, 2012, at 11 a.m.

CONTACT PERSON FOR MORE INFORMATION: Stephen L. Sharfman, General Counsel, (202) 789-6820 or stephen.sharfman@prc.gov.

Shoshana M. Grove,
Secretary.

[FR Doc. 2011-33665 Filed 12-28-11; 4:15 pm]

BILLING CODE 7710-FW-P